DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action by Trade Adjustment Assistance for Period June 21, 2003-July 22, 2003
Firm name | Address | Date petition accepted | Product
K & S Optics, Inc | 1080 Chenango Street, Binghamton, NY 13901 | 27-Jun-03 | Cylindrical lenses used in optical instruments for inspecting semiconductors, telecommunication devices and astronomical instruments.
Atco Products, Inc | 1002 Performance Road, Forest, VA 24551 | 01-Jul-03 | Seal and O-rings for the automotive and food and beverage and industrial equipment industries.
United Speaker Systems, Inc | 6400 Youngerman Circle, Jacksonville, FL 32244 | 01-Jul-03 | Loudspeakers.
Mega Sun, Inc | 3301 Locust Street, St. Louis, MO 63103 | 01-Jul-03 | Commercial and residential tanning beds and chemical tanning equipment.
L & R Precision Tooling, Inc | 460 West & Sunburst Road, Lynchburg, VA 24502 | 09-Jul-03 | Machinery parts that produce parts for cellular telephones, valves and medical equipment.
Innovative Plastech, Inc | 1260 Kingsland Drive, Batavia, IL 60510 | 09-Jul-03 | Packaging trays of vacuum formed thermoplastic.
PA-TED Spring Company, Inc | 137 Vincent P. Kelly Road, Bristol, CT 06010 | 11-Jul-03 | Springs, multiforms, and small mechanical hand and power tools for the electronics and automotive industries.
Tryco Tool & Manufacturing Co., Inc | 363 South Jefferson Street, Orange, NJ 07050 | 16-Jul-03 | Metal stamped parts for circuit breakers, electrical panels, valves and housings, and consumer and industrial lighting.
Fast Heat, Inc | 776 Oaklawn Avenue, Elmhurst, Il 60126 | 16-Jul-03 | Hot runner systems.
Genesee Wester, Inc. dba MetalCraft Industries, Inc | 1250 W 124th Avenue, Westminster, CO 80234 | 21-Jul-03 | Stamped and sheet metal products for the automotive industry.
Sunset Mold, LLC | 727 Commerce Drive, Venice, FL 34292 | 22-Jul-03 | Injection molds for rubber or plastic.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: July 23, 2003.
Anthony J. Meyer,
Coordinator, Trade Adjustment and Technical Assistance.

[FR Doc. 03-19308 Filed 7-29-03; 8:45 am]

BILLING CODE 3510-24-P